DEPARTMENT OF DEFENSE

GENERAL SERVICES ADMINISTRATION

NATIONAL AERONAUTICS AND SPACE ADMINISTRATION

[OMB Control No. 9000-0082; Docket No. 2022-0053; Sequence No. 11]

Information Collection; Federal Acquisition Regulation Part 7 Requirements

AGENCY: Department of Defense (DOD), General Services Administration (GSA), and National Aeronautics and Space Administration (NASA).

ACTION: Notice and request for comments.

SUMMARY: In accordance with the Paperwork Reduction Act of 1995, and the Office of Management and Budget (OMB) regulations, DoD, GSA, and NASA invite the public to comment on a revision concerning Federal Acquisition Regulation part 7 requirements. DoD, GSA, and NASA invite comments on: Whether the proposed collection of information is necessary for the proper performance of the functions of Federal Government acquisitions, including whether the information will have practical utility; the accuracy of the estimate of the burden of the proposed information collection; ways to enhance the quality, utility, and clarity of the information to be collected; and ways to minimize the burden of the information collection on respondents, including the use of automated collection techniques or other forms of information technology. OMB has approved this information collection for use through August 31, 2022. DoD, GSA, and NASA propose that OMB extend its approval for use for three additional years beyond the current expiration date.

DATES: DoD, GSA, and NASA will consider all comments received by June 3, 2022.

ADDRESSES: DoD, GSA, and NASA invite interested persons to submit comments on this collection through https://www.regulations.gov and follow the instructions on the site. This website provides the ability to type short comments directly into the comment field or attach a file for lengthier comments. If there are difficulties submitting comments, contact the GSA Regulatory Secretariat Division at 202-501-4755 or GSARegSec@gsa.gov.

Instructions: All items submitted must cite OMB Control No. 9000-0082, Federal Acquisition Regulation Part 7 Requirements. Comments received generally will be posted without change to https://www.regulations.gov, including any personal and/or business confidential information provided. To confirm receipt of your comment(s), please check www.regulations.gov, approximately two-to-three days after submission to verify posting.

FOR FURTHER INFORMATION CONTACT: Carrie Moore, Procurement Analyst, at telephone 571-300-5917, or carrie.moore@gsa.gov.

SUPPLEMENTARY INFORMATION:

A. OMB Control Number, Title, and Any Associated Form(s)

9000-0082, Federal Acquisition Regulation Part 7 Requirements.

B. Need and Uses

DoD, GSA, and NASA are combining OMB Control Nos. for the Federal Acquisition Regulation (FAR) by FAR part. This consolidation is expected to improve industry's ability to easily and efficiently identify burdens associated with a given FAR part. The review of the information collections by FAR part allows improved oversight to ensure there is no redundant or unaccounted for burden placed on industry. Lastly, combining information collections in a given FAR part is also expected to reduce the administrative burden associated with processing multiple information collections.

This justification supports the revision of OMB Control No. 9000-0082 and combines it with the previously approved information collection under OMB Control No. 9000-0114, with the new title “Federal Acquisition Regulation Part 7 Requirements”. Upon approval of this consolidated information collection, OMB Control No. 9000-0114 will be discontinued. The burden requirements previously approved under the discontinued number will be covered under OMB Control No. 9000-0082.

This clearance covers the information that offerors or contractors must submit to comply with the following FAR requirements:

FAR clause 52.207-3, Right of First Refusal of Employment, requires contractors to provide the contracting officer, within 120 days of beginning contract performance, the names of personnel who were: Adversely affected or separated from Government employment as a result of the contract award; and subsequently hired by the contractor to perform under the contract within 90 days after contract performance began. The information provided under this clause is used by the Government to ensure: Contractor compliance with providing the right of first refusal to such affected personnel; and certain obligations to displaced employees are met by the Government.

FAR provision 52.207-4, Economic Purchase Quantity—Supplies, permits offerors, who believe that acquisition of supplies in quantity different from what is being solicited would be more advantageous to the Government, to recommend with their offer a more economic purchase quantity for the required supplies. The information provided under this provision is used by the Government to acquire supplies at the total and unit costs most advantageous to the Government and to develop a database for future acquisitions of such items of supply.

C. Annual Burden

Respondents: 14,510.

Total Annual Responses: 14,510.

Total Burden Hours: 14,530.

Obtaining Copies: Requesters may obtain a copy of the information collection documents from the GSA Regulatory Secretariat Division, by calling 202-501-4755 or emailing GSARegSec@gsa.gov. Please cite OMB Control No. 9000-0082, Federal Acquisition Regulation Part 7 Requirements.

Janet Fry,
Director, Federal Acquisition Policy Division, Office of Governmentwide Acquisition Policy, Office of Acquisition Policy, Office of Governmentwide Policy.

[FR Doc. 2022-06992 Filed 4-1-22; 8:45 am]

BILLING CODE 6820-EP-P